DEPARTMENT OF TRANSPORTATION

U.S. Merchant Marine Academy Board of Visitors; Public Meeting

AGENCY: Office of the Secretary, DOT.

ACTION: Notice of public meeting.

SUMMARY: The U.S. Department of Transportation announces a meeting of the U.S. Merchant Marine Academy (USMMA) Board of Visitors (Board).

DATES: November 24, 2025 from 1:00 p.m. to 4:00 p.m. EST. Requests to attend the virtual meeting must be received by November 10, 2025. Written statements to be considered during the meeting must be received via email to ExternalAffairs@usmma.edu no later than November 17, 2025. Requests for accommodations for a disability must be received via email to ExternalAffairs@usmma.edu no later than November 17, 2025.

ADDRESSES: The meeting is open to the public and will be held through a virtual forum. The USMMA Board of Visitors web page and general information about the Board can be found at https://www.usmma.edu/about/leadership/board-visitors.

FOR FURTHER INFORMATION CONTACT: The Board's Designated Federal Officer and Point of Contact, Michael O'Hagan, 516-726-6048 or ExternalAffairs@usmma.edu.

SUPPLEMENTARY INFORMATION:

Background

The Board is a Federal Advisory Committee originally established as a Congressional Board by 46 U.S.C. 51312 “to provide independent advice and recommendations on matters relating to the United States Merchant Marine Academy.” The Board was originally chartered under the Federal Advisory Committee Act (FACA) on October 24, 2017.

Agenda

The meeting agenda will cover, but is not limited to, the following proposed topics:

1. Welcome remarks and Board maintenance items.

2. Update on the state of the Regiment of Midshipmen.

3. Update on the following topics:

a. USMMA Educational Programs and Sea Year;

b. Middle States Accreditation;

c. Facilities and Infrastructure Projects and Campus Modernization Plan;

d. Website Refresh;

e. Admissions;

f. Athletics Programs;

g. Midshipmen Well Being (including Sexual Assault and Sexual Harassment Prevention and Response)

Public Participation

This meeting is open to the public and will be held through a virtual forum. The U.S. Department of Transportation is committed to providing equal access to this meeting for all participants. If you need alternative formats or services because of a disability, such as sign language, interpretation, or other ancillary aids, please contact the person listed in the FOR FURTHER INFORMATION CONTACT section.

Any member of the public is permitted to file a written statement with the Board. Written statements should be sent to the Designated Federal Officer listed in the FOR FURTHER INFORMATION CONTACT section no later than November 10, 2024.

No member of the public will be allowed to present questions or speak during the meeting unless requested to do so by a member of the Board.

(Authority: 46 U.S.C. 51312; 5 U.S.C. 552b; 5 U.S.C. Ch.10; 41 CFR parts 102-3.140 through 102-3.165)

Signed in Washington, DC, on November 4, 2025.
Anne Byrd,
Assistant Secretary for Administration, U.S. Department of Transportation.

[FR Doc. 2025-19805 Filed 11-6-25; 8:45 am]

BILLING CODE 4910-81-P